FEDERAL COMMUNICATIONS COMMISSION

[OMB 3060-1267; FR ID 301823]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before September 8, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-1267.

Title: FCC Anti-Harassment Intake Form.

Form Number: FCC Form 5632.

Type of Review: Extension of a currently approved collection.

Respondents: Individuals or households; Federal Government.

Number of Respondents and Responses: 2 respondents and 2 responses.

Estimated Time per Response: 3 hours.

Frequency of Response: One-time reporting requirement.

Obligation to Respond: Voluntary. Statutory authority for these collections is contained in the Civil Rights Act of 1964 section 7, as amended, 42 U.S.C. 2000e; Age Discrimination in Employment Act of 1967 (ADEA), 29 U.S.C. 621-634; Americans with Disabilities Act of 1990 (ADA), as amended, 42 U.S.C. 12101-12213; Rehabilitation Act of 1973, as amended, 29 U.S.C. 501 et seq.

Total Annual Burden: 9 hours.

Total Annual Cost: $4,050.

Needs and Uses: FCC employees and related individuals may seek a forum through the Anti-Harassment Program for inquiry and resolution of harassment claims by completing FCC Form 5632.

Federal Communications Commission.
Marlene Dortch,
Secretary, Office of the Secretary.

[FR Doc. 2025-12700 Filed 7-8-25; 8:45 am]

BILLING CODE 6712-01-P